NUCLEAR REGULATORY COMMISSION

[Docket No. 52-001; NRC-2009-0523]

South Texas Project Nuclear Operating Company Acceptance for Docketing of an Application for U. S. Advanced Boiling Water Reactor Design Certification; Rule Amendment

On June 30, 2009, the U.S. Nuclear Regulatory Commission (NRC, the Commission) received an application from South Texas Project Nuclear Operating Company (STPNOC), filed pursuant to Section 103 of the Atomic Energy Act and Title 10 of the Code of Federal Regulations (10 CFR), part 52, for the approval of the application to amend the U.S. Advanced Boiling Water Reactor (ABWR) design certification rule (DCR). This amendment is to meet the aircraft impact assessment requirements in 10 CFR 50.150. The application is considered sufficiently complete to be accepted formally as a docketed application. The docket number established for this application is 52-001. A notice related to the rulemaking pursuant to 10 CFR 52.51 for design certification, including provisions for participation of the public and other parties, will be published in the future.

The NRC staff will perform a detailed technical review of this DCR amendment application. Docketing this application does not preclude the NRC from requesting additional information from the applicant as the review proceeds, nor does it predict whether the Commission will grant or deny the application.

Documents may be examined, and/or copied for a fee, at the NRC's Public Document Room (PDR), located at: One White Flint North, Room O1 F21, 11555 Rockville Pike (First Floor), Rockville, Maryland 20852.

Documents will also be accessible electronically through the Agencywide Documents Access System (ADAMS) Public Electronic Reading Room link at the NRC Web site http://www.nrc.gov/reading-rm/adams.html. Persons who do not have access to ADAMS, or who encounter problems in accessing documents located in ADAMS should contact the NRC PDR Reference staff by telephone at 1-800-397-4209, 301-415-4737, or by e-mail to pdr@nrc.gov. The application is also available at http://www.nrc.gov/reactors/new-licensing/col.html.

Dated at Rockville, Maryland this 23rd day of November.
For The U. S. Nuclear Regulatory Commission.
Frank Akstulewicz,
Deputy Director, Licensing Operations, Division of New Reactor Licensing, Office of New Reactors.

[FR Doc. E9-28657 Filed 11-30-09; 8:45 am]

BILLING CODE 7590-01-P